DEPARTMENT OF DEFENSE

Office of the Secretary

President's Information Technology Advisory Committee (PITAC)

ACTION: Notice of meeting.

SUMMARY: This meeting is focused on the deliberation of PITAC's draft report on computational science. A small fraction of the meeting time may be allocated for other PITAC updates at the discretion of the co-chairs and the designated Federal officer.

DATES: Wednesday, May 11, 2005, 5:30-7 p.m. eastern time.

ADDRESSES: By teleconference.

SUPPLEMENTARY INFORMATION: Information about participation by the public will be posted at PITAC's Web site (http://www.nitrd.gov/pitac) by April 26, 2005. The agenda for this meeting will be posted at this Web site when it becomes available. Meeting information may also be obtained by calling 703-292-4873 from Monday through Friday, 8 a.m.-5 p.m. eastern time.

FOR FURTHER INFORMATION CONTACT: Alan Inouye at the National Coordination Office for Information Technology Research and Development at 703-292-4873 or by e-mail at inouye@nitrd.gov.

Dated: May 4, 2005.
Jeannette Owings-Ballard,
OSD Federal Register Liaison Officer, Department of Defense.

[FR Doc. 05-9212 Filed 5-5-05; 8:45 am]

BILLING CODE 5001-06-P